DEPARTMENT OF ENERGY

Federal Energy Regulatory Commission

Notice of Application for Amendment of License and Soliciting Comments, Motions To Intervene, and Protests

August 27, 2004.

Take notice that the following application has been filed with the Commission and is available for public inspection:

a. Application Type: Amendment of License.

b. Project No: 2514-093.

c. Date Filed: July 27, 2004.

d. Applicant: Appalachian Power Company, Virginia.

e. Name of Project: Byllesby/Buck Project.

f. Location: The project is located on the New River in Carroll County, Virginia.

g. Filed Pursuant to: Federal Power Act, 16 U.S.C. 791(a)-825(r).

h. Applicant Contact: Frank M. Simms, American Electric Power, P.O. Box 2021, Roanoke, VA 24022-2121

i. FERC Contact: Any questions on this notice should be addressed to Mr. Eric Gross at (202) 502-6213, or e-mail address: eric.gross@ferc.gov.

j. Deadline for filing comments and or motions: September 27, 2004.

k. Description of Request: In an April 15, 2004, order the Commission approved Appalachian Power Company's (Appalachian) request for a temporary variance to their license to allow them to lower the reservoir at the Byllesby Development by up to 11 feet below the licensed minimum elevation. The variance was needed to perform routine maintenance on the spillway and tainter gates and was planned to occur from May 1 through October 15 in 2004 and 2005. In their July 27, 2004, filing Appalachian requests to revise the dates that the spillway and tainter gate maintenance take place to July 25 through October 15 in 2004 and May 1 through October 15 in 2006. The reservoir will not be lowered in 2005.

l. Locations of Applications: A copy of the application is available for inspection and reproduction at the Commission in the Public Reference Room, located at 888 First Street, NE., Room 2A, Washington DC 20426, or by calling (202) 502-8371. This filing may also be viewed on the Commission's Web site at http://www.ferc.gov using the “eLibrary” link. Enter the docket number excluding the last three digits in the docket number field to access the document. You may also register on-line at http://www.ferc.gov/docs-filing/esubscription.asp to be notified via email of new filings and issuances related to this or other pending projects. For assistance contact FERC Online Support at FERCOnlineSupport@ferc.gov or toll-free 1-866-208-3676, or for TTY, call (202) 502-8659. A copy is also available for inspection and reproduction at the address in item (h) above.

m. Individuals desiring to be included on the Commission's mailing list should so indicate by writing to the Secretary of the Commission (see items o below).

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E4-2054 Filed 9-2-04; 8:45 am]

BILLING CODE 6717-01-P